FARM CREDIT SYSTEM INSURANCE CORPORATION

Farm Credit System Insurance Corporation Board; Regular Meeting

AGENCY: Farm Credit System Insurance Corporation Board.

SUMMARY: Notice is hereby given of the regular meeting of the Farm Credit System Insurance Corporation Board (Board).

DATES: The meeting of the Board will be held at the offices of the Farm Credit Administration in McLean, Virginia, on September 16, 2004, from 9 a.m. until such time as the Board concludes its business.

FOR FURTHER INFORMATION CONTACT: Jeanette C. Brinkley, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available), and parts will be closed to the public. In order to increase the accessibility to Board meetings, persons requiring assistance should make arrangements in advance. The matters to be considered at the meeting are:

Closed Session

• Report on System Performance

Open Session

Approval of Minutes

• June 10, 2004 (Regular Meeting)

Business Reports

• Financials

• Report on Insured Obligations

• Quarterly Report on Annual Performance Plan

New Business

• Review of Insurance Premium Rates

• Proposed 2005-2006 Budget and 2005 Annual Performance Plan

Dated: September 8, 2004.
Jeanette C. Brinkley,
Secretary, Farm Credit System Insurance Corporation Board.

[FR Doc. 04-20606 Filed 9-8-04; 1:25 pm]

BILLING CODE 6710-01-P